SMALL BUSINESS ADMINISTRATION

Administrator's Line of Succession Designation, No. 1-A, Revision 23

This document replaces and supercedes “Line of Succession Designation No. 1-A, Revision 22.”

Line of Succession Designation No. 1-A, Revision 23

Effective immediately, the Administrator's Line of Succession Designation is as follows:

(a) If I am absent from the office the Deputy Administrator will assume all functions and duties of the Administrator. In the event both I and the Deputy Administrator are absent from the office, I designate the officials in listed order below to serve as Acting Administrator with full authority to perform all acts which the Administrator is authorized to perform:

(1) Chief of Staff;

(2) General Counsel;

(3) Associate Deputy Administrator for Management and Administration;

(4) Associate Deputy Administrator for Capital Access;

(5) Associate Deputy Administrator for Government Contracting and Business Development;

(6) Associate Deputy Administrator for Entrepreneurial Development;

(7) Counselor to the Administrator;

(8) Chief Operating Officer;

(9) Deputy General Counsel;

(10) Chief Financial Officer.

(a) An individual serving in an acting capacity in any of the positions listed in paragraph (a)(1) through (10) is not also included in this Line of Succession. Instead, the next non-acting incumbent on the list shall serve as Acting Administrator.

(b) This designation shall remain in full force and effect until revoked or superceded in writing by the Administrator, or by the Deputy Administrator when serving as Acting Administrator.

(c) Serving as Acting Administrator has no effect on the officials listed in paragraph (a)(1) through (10), above, with respect to their full-time position's authorities, duties and responsibilities (except that such official cannot both recommend and approve an action).

Dated: January 5, 2001.
Aida Alvarez,
Administrator.

[FR Doc. 01-1584 Filed 1-18-01; 8:45 am]

BILLING CODE 8010-01-U